DEPARTMENT OF ENERGY

Federal Energy Regulatory Commission

[Docket No. EL09-38-000]

Notice of Complaint

March 6, 2009.

California Municipal Utilities Association; Cities of Anaheim, Azusa, Banning, Colton, Pasadena, and Riverside, California; City and County of San Francisco; Northern California Power Agency; Sacramento Municipal Utility District; Modesto Irrigation District; Transmission Agency of Northern California, Complainants v. California Independent System Operator Corporation, Respondent

Take notice that on March 4, 2009, the California Municipal Utilities Association, (CMUA) on behalf of itself and its members, the Cities of Anaheim, Azusa, Banning, Colton, Pasadena, and Riverside, California (the Six Cities); the City and County of San Francisco (CCSF); the Northern California Power Agency (NCPA); the Sacramento Municipal Utility District (SMUD); the Modesto Irrigation District (MID); and the Transmission Agency of Northern California (TANC), filed a formal complaint against the California Independent System Operator Corporation (CASIO), pursuant to sections 206, 306 and 309 of the Federal Power Act and Rule 206 of the Federal Energy Regulatory Commission's Rules of Practice and Procedure, alleging that the absence of Tariff provisions to protect Market Participants against charges incurred upon implementation of the Market Redesign and Technology Upgrade Tariff that are dramatically in excess of those levied during prior historic periods is unjust and unreasonable in violation of the Federal Power Act.

Complainants certify that copies of the complaint were served on the contacts for the CASIO as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 16, 2009.

Kimberly D. Bose,
Secretary.

[FR Doc. E9-5429 Filed 3-12-09; 8:45 am]

BILLING CODE 6717-01-P